DEPARTMENT OF STATE

[Public Notice 8529]

Request for Public Comments on the UN Committee on World Food Security Principles for Responsible Agricultural Investment

AGENCY: Department of State.

ACTION: Notice; request for public comments.

SUMMARY: The Department of State invites the public, including non-governmental and civil society organizations, think tanks, educational institutions, private sector companies, and other interested persons, to submit written comments on the draft UN Committee on World Food Security (CFS) Principles for Responsible Agricultural Investment. Comments received will be shared in full with the CFS for consideration.

DATES: All written comments must be received no later than December 22, 2013.

ADDRESSES: Comments should be emailed to Amy Diggs (DiggsAK@state.gov), Office of Agriculture, Biotechnology, and Textile Trade Affairs, Bureau of Economic and Business Affairs, U.S. Department of State.

FOR FURTHER INFORMATION CONTACT: Amy Diggs, telephone (202) 736-4327.

SUPPLEMENTARY INFORMATION: The CFS is an intergovernmental platform for all stakeholders to address food and nutrition security, including the production of and physical and economic access to food. In October 2012, the CFS began a multi-stakeholder process to develop voluntary, non-binding international principles for responsible investment in agriculture along the entire value chain. The United States is a member of the CFS and involved in the negotiation of the principles.

The draft principles document prepared by the CFS Secretariat is available on the CFS Web site (http://www.fao.org/cfs/cfs-home/resaginv/en/). We invite comments from the public. Please send them to the email address noted in the ADDRESSES section above.

Dated: November 18, 2013.
Jonathan Shrier,
Acting Special Representative, Office of Global Food Security, Department of State.

[FR Doc. 2013-28097 Filed 11-21-13; 8:45 am]

BILLING CODE 4710-10-P